DEPARTMENT OF COMMERCE

National Oceanic and Atmospheric Administration

Agency Information Collection Activities; Submission to the Office of Management and Budget (OMB) for Review and Approval; Comment Request; Papahānaumokuākea Marine National Monument & University of Hawaii Research Internship Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 8, 2021, (86 FR 13340) during a 60-day comment period. This notice allows for an additional 30 days for public comments.

Agency: National Oceanic & Atmospheric Administration (NOAA), Commerce.

Title: Papahānaumokuākea Marine National Monument & University of Hawaii Research Internship Program.

OMB Control Number: 0648-0719.

Form Number(s): None.

Type of Request: Regular submission, extension of a current information collection.

Number of Respondents: 100.

Average Hours per Response: Scholarship application: 1 hour; Reference forms: 30 minutes; Support Letter: 30 minutes.

Total Annual Burden Hours: 62.5.

Needs and Uses: This is a request for extension of a currently approved information collection. The National Oceanic and Atmospheric Administration's (NOAA) National Ocean Service's Office of National Marine Sanctuaries (ONMS) Papahānaumokuākea Marine National Monument (PMNM) is sponsoring this collection. On June 15, 2006, President George W. Bush established the Papahānaumokuākea Marine National Monument (PMNM) by Presidential Proclamation 8031 under the authority of the American Antiquities Act, 16 CFR 431, to ensure the comprehensive, strong, and lasting protection of the coral reef ecosystems and related resources of the Northwestern Hawaiian Islands (NWHI). At a time when ocean resources around the world are in major decline, the designation of PMNM enabled nearly 140,000 square miles of U.S. land and waters of the region to receive the highest form of environmental protection in the country and created one of the largest marine conservation areas in the world. As part of PMNM's mission to characterize its natural resources, PMNM conducts annual coral reef monitoring expeditions to the NWHI. Additionally, as part of PMNM's education mission, PMNM is committed to providing educational opportunities for students and educators. In order to accomplish these two missions, PMNM has partnered with the University of Hawaii to offer research internships. Each year, a limited number of research internships will be awarded to outstanding undergraduate students in the marine sciences at the University of Hawaii. These internships consist of training students in SCUBA surveys of coral reef fauna, a research expedition to PMNM aboard a NOAA or contract ship, and the development of an independent research project with data from the expedition. Due to the fact that space is very limited for these internships, only a small number of internships can be offered each year. This request collects information from internship applicants in order to allow PMNM staff to select candidates which are best suited for its research internships. The collection of information will consist of an electronic application package, which will be solicited annually from undergraduate students applying for the internship. The application package will include (1) an application form with information on academic background and professional experiences, (2) reference forms by two educational or professional references, and (3) a support letter from one academic professor or advisor. All gathered information would be used only by staff of PMNM for the purpose of selecting interns, and will not be shared with any other party. None of the information collected will be disseminated to the public.

Affected Public: Individuals.

Frequency: Annually.

Respondent's Obligation: Voluntary.

Legal Authority:

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0719.

Sheleen Dumas,
Department PRA Clearance Officer, Office of the Chief Information Officer, Commerce Department.

[FR Doc. 2021-15352 Filed 7-19-21; 8:45 am]

BILLING CODE 3510-JE-P